DEPARTMENT OF JUSTICE

Notice of Lodging of Consent Decree under the Clean Water Act and the Oil Pollution Act

Notice is hereby given that on August 19, 2009, a proposed Consent Decree in United States of America and the State of Indiana v. Countrymark Cooperative LLP, Civil Action No. 1:09-cv-1018, was lodged with the United States District Court for the Southern District of Indiana.

In this action the United States, on behalf of the United States Department of Interior, the United States Fish and Wildlife Service, and the United States Coast Guard; and the State of Indiana, on behalf of the Indiana Department of Environmental Management and the Indiana Department of Natural Resources, sought damages under the Clean Water Act, 33 U.S.C. 1251 et seq., and the Oil Pollution Act, 33 U.S.C. 2701 et seq., for injury to, destruction of, or loss of natural resources resulting from a 2003 oil spill in the Wabash River floodplain near Griffin, Indiana (the “Spill”). The Consent Decree resolves the claims of the United States and State of Indiana against Countrymark Cooperative in connection with the Spill. The Consent Decree provides that Countrymark Cooperative shall: (1) Undertake restoration activities at a nearby park; (2) reimburse a total of $22,800.12 in damage assessment costs; and (3) pay the future costs of overseeing the restoration work.

The U.S. Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States of America and the State of Indiana v. Countrymark Cooperative LLP, Civil Action No. 1:09-cv-1018, D.J. Ref. 90-5-1-1-08445.

During the comment period, the Consent Decree may be examined at the Office of the United States Attorney, Southern District of Indiana, 10 W. Market Street, Suite 2100, Indianapolis, Indiana 46204-3048, and at the offices of the U.S. Department of the Solicitor, Three Parkway Center, Room 385, Pittsburgh, PA 15220. The Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.25 (25 cents per page reproduction cost) payable to the U.S. Treasury.

Maureen Katz,
Assistant Section Chief, Environmental Enforcement Section, Environment and Natural Resources Division.

[FR Doc. E9-22061 Filed 9-14-09; 8:45 am]

BILLING CODE 4410-15-P